DEPARTMENT OF TRANSPORTATION

Federal Aviation Administration

Availability of Draft Written Reevaluation for the Proposed West Aircraft Maintenance Area at Los Angeles International Airport, Los Angeles, Los Angeles County, CA

AGENCY: Federal Aviation Administration, Department of Transportation (DOT).

ACTION: Notice of availability of draft written reevaluation.

SUMMARY: The Federal Aviation Administration (FAA) is issuing this notice to advise the public that the Draft Written Reevaluation for a minor adjustment to a project evaluated in FAA's 2005 Final Environmental Impact Statement (FEIS) for the LAX Master Plan will be made available for public comment. The Draft Written Reevaluation has been prepared for the construction and operation of the proposed West Aircraft Maintenance Area (WAMA) west of Taxiway AA in the southwest quadrant of Los Angeles International Airport, Los Angeles, California. FAA is seeking comments on the Draft Written Reevaluation.

FOR FURTHER INFORMATION CONTACT: David B. Kessler, AICP, Regional Environmental Protection Specialist, AWP-610.1, Airports Division, Federal Aviation Administration, Western-Pacific Region, P.O. Box 92007, Los Angeles, California 90009-2007, Telephone: 310/725-3615. Comments on the draft Written Reevaluation should be submitted to the address above and must be received no later than 5:00 p.m. Pacific Standard Time, Friday, May 30, 2014.

SUPPLEMENTARY INFORMATION: In December 2004, the Los Angeles City Council approved the Master Plan for Los Angeles International Airport (LAX). From this Master Plan, the City of Los Angeles, through its Airport Department—Los Angeles World Airports (LAWA), prepared an Airport Layout Plan (ALP). The ALP depicts the existing and planned future locations of runways, taxiways, aircraft parking aprons, terminal buildings and other associated facilities on the airport. At the time the ALP was prepared, the LAWA's and Federal Aviation Administration's (FAA) focus was on airfield safety to reduce runway incursions. A minor component of the Master Plan included aircraft maintenance. The ALP depicts various existing hangar buildings to be demolished and aircraft maintenance to be consolidated into the southwest quadrant of the airport on the east side of a north/south taxiway called “Taxiway AA.”

The FAA has prepared a Draft Written Reevaluation for a minor adjustment to a project evaluated in its 2005 Final Environmental Impact Statement (EIS) for the LAX Master Plan pursuant to the National Environmental Policy Act of 1969. LAWA proposes to adjust its LAX ALP to depict the proposed West Aircraft Maintenance Area (WAMA) on the west side of Taxiway AA rather than the east side as originally proposed in the 2005 Final EIS.

FAA is making the Draft Written Reevaluation available to the public and governmental agencies for review and comment. The Draft Written Reevaluation discusses the change in the location of the proposed WAMA project and briefly summarizes the potential environmental consequences of the LAWA's proposed change. The change in the proposed location of the West Employee Parking Facility is also discussed in the Draft Written Reevaluation. The anticipated impacts of the proposed WAMA project are compared to what was evaluated in the FAA's 2005 Final Environmental Impact Statement (EIS) and approved in the FAA's Record of Decision dated May 20, 2005. Further, LAWA is not proposing to implement the West Employee Parking Facility at this time.

FAA has prepared the Draft Written Reevaluation pursuant to FAA Order 1050.1E, Environmental Impacts: Policies and Procedures, and FAA Order 5050.4B, National Environmental Policy Act (NEPA) Implementing Instructions for Airport Actions. LAWA is seeking federal approval of the ALP for the proposed WAMA. FAA does not anticipate LAWA seeking federal funding assistance for the proposal.

Copies of the Draft Written Reevaluation are available for public review at the following locations during normal business hours: U.S. Department of Transportation, Federal Aviation Administration, Western-Pacific Region, Office of the Airports Division, 15000 Aviation Boulevard, Hawthorne, California 90261.

The document is also available for public review at the following libraries and at the following Web site: http://www.faa.gov/airports/western_pacific/environmental/.

Westchester-Loyola Village Branch Library—7114 W. Manchester Ave., Los Angeles, CA 90045.

El Segundo Library—111 W. Mariposa Ave., El Segundo, CA 90245.

Inglewood Library—101 W. Manchester Blvd., Inglewood, CA 90301.

Culver City Library—4975 Overland Ave., Culver City, CA 90230.

The Draft Written Reevaluation will be available for public comment for 30 days. Written comments on the Draft Written Reevaluation should be submitted to the address above under the heading FOR FURTHER INFORMATION CONTACT and must be received no later than 5:00 p.m. Pacific Standard Time, Friday, May 30, 2014. FAA will consider all comments received when making a decision whether the requested ALP changes may be approved based on the Written Reevaluation or whether further environmental review for the proposed WAMA is required.

Before including your name, address and telephone number, email or other personal identifying information in your comment, be advised that your entire comment—including your personal identifying information—may be made publicly available at any time. While you can ask us in your comment to withhold from public review your personal identifying information, we cannot guarantee that we will be able to do so.

Issued in Hawthorne, California on April 16, 2014.
Mark A. McClardy,
Manager, Airports Division, Western—Pacific Region, AWP-600.

[FR Doc. 2014-09901 Filed 4-29-14; 8:45 am]

BILLING CODE 4910-13-P